NATIONAL SCIENCE FOUNDATION

Advisory Committee for Biological Sciences; Notice of Meeting

In accordance with the Federal Advisory Committee Act (Pub., L. 92-463, as amended), the National Science Foundation (NSF) announces the following meeting:

Name and Committee Code: Advisory Committee for Biological Sciences (#1110).

Date and Time: April 25, 2017; 8:30 a.m.-5:00 p.m., April 26, 2017; 8:30 a.m.-12:00 p.m.

Place: National Science Foundation, 4201 Wilson Boulevard, Room 1235, Arlington, VA 22230.

Please contact Rachel Evans at rlevans@nsf.gov to obtain a visitor badge. All visitors to the NSF will be required to show photo ID to obtain a badge.

Type of Meeting: OPEN.

Contact Person: Brent Miller, National Science Foundation, 4201 Wilson Boulevard, Room 605, Arlington, VA 22230; Tel No: (703) 292-8400.

Purpose of Meeting: The Advisory Committee for the Directorate for Biological Sciences (BIO) provides advice, recommendations, and oversight concerning major program emphases, directions, and goals for the research-related activities of the divisions that make up BIO.

Agenda: Agenda items will include Directorate updates, AC “Leading Edge” portfolio analysis, a Division of Biological Infrastructure program assessment update, the preliminary proposal review update, presentations and discussions on partnerships, and other matters relevant to the Directorate for Biological Sciences.

Dated: March 20, 2017.
Crystal Robinson,
Committee Management Officer.

[FR Doc. 2017-05798 Filed 3-22-17; 8:45 am]

BILLING CODE 7555-01-P